DEPARTMENT OF ENERGY

Notice of Extended Deadline for Comments to the Notice of Intent and Request for Information: Designation of National Interest Electric Transmission Corridors; Extension of Comment Period

AGENCY: Grid Deployment Office, Department of Energy.

ACTION: Extension of public comment period.

SUMMARY: On May 15, 2022, the U.S. Department of Energy (DOE or the Department) announced the availability of a Notice of Intent and Request for Information for the Designation of National Interest Electric Transmission Corridors (NIETC) Program pursuant to the Federal Power Act (FPA). The Notice of Intent and Request for Information provided a comment period deadline for submitting written comments and information by June 29, 2023. The Department received a request from the National Association of Regulatory Utility Commissioners (NARUC) seeking a 30-day extension of the public comment period. DOE has reviewed this request and is granting an extension of the public comment period for 32 days to allow public comments to be submitted on or before July 31, 2023.

DATES: The comment period for the Notice of Intent and Request for Information for the Designation of National Interest Electric Transmission Corridors published in the Federal Register on May 15, 2022 (88 FR 30956) is extended. Written comments and information are now requested on or before July 31, 2023.

ADDRESSES: Interested parties may submit comments through the Federal eRulemaking Portal at www.regulations.gov.

FOR FURTHER INFORMATION CONTACT: Requests for additional information may be sent to: NIETC@hq.doe.gov. Questions about the Notice of Intent and Request for Information may be addressed to Molly Roy at (202) 586-2006.

SUPPLEMENTARY INFORMATION: On May 15, 2022, DOE published in the Federal Register a Notice of Intent and Request for Information for the Designation of NIETC Program pursuant to the FPA. 88 FR 30956. DOE seeks comments from the public and interested parties on these identified program elements and any additional program elements that should be included to assist in developing final guidelines, procedures, and evaluation criteria for the applicant-driven, route-specific NIETC designation process.

On June 7, 2023, the Department received a request from NARUC for a 30-day deadline extension to the submission deadline comments in response to the Notice of Intent and Request for Information. In its request, NARUC explained that many NARUC member commissions most interested in filing comments have limited staff to devote to federal issues with competing priorities for their time. Furthermore, NARUC stated that there is an upcoming NARUC Summer Policy Summit that could be used by members to discuss relevant issues and develop positions to submit to DOE if the comment period were extended. DOE has reviewed the request has decided to extend the deadline to allow additional time for the public to submit their comments. A limited extension of the deadline for comments to the Notice of Intent and Request for Information will not prevent the Department from advancing the NIETC designation program in a timely fashion. Therefore, the Department is extending the comment period for the Notice of Intent and Request for Information to July 31, 2023, to provide the public additional time to prepare and submit commits.

Signing Authority

This document of the Department of Energy was signed on June 20, 2023, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 20, 2023.
Treena V. Garrett,
Federal Register Liaison Officer, U.S. Department of Energy.

[FR Doc. 2023-13429 Filed 6-23-23; 8:45 am]

BILLING CODE 6450-01-P